DEPARTMENT OF ENERGY

Federal Energy Regulatory Commission

[Docket No. CP17-46-000]

Southern Natural Gas Company, LLC; Notice of Schedule for Environmental Review of the Fairburn Expansion Project

On February 3, 2017, Southern Natural Gas Company, LLC (Southern) filed an application in Docket No. CP17-46-000 requesting a Certificate of Public Convenience and Necessity pursuant to section 7(c) of the Natural Gas Act to construct and operate certain natural gas pipeline facilities. The proposed project is known as the Fairburn Expansion Project, and would add 343,164 dekatherms per day of firm transportation service to its existing pipeline system.

On February 17, 2017 the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA: August 18, 2017.

90-day Federal Authorization Decision Deadline: November 16, 2017.

If a schedule change becomes necessary, additional notice will be provided so that the relevant agencies are kept informed of the Project's progress.

Project Description

Southern would upgrade and construct certain compression and pipeline facilities in Fayetteville and Fulton Counties, Georgia (including installing a new 4.9-mile-long 30-inch-diameter Fairburn Lateral and the new 18,000-horsepower electric Fairburn Compressor Station); and Clayton and Cobb Counties Georgia.

Background

On March 20, 2017, the Commission issued a Notice of Intent To Prepare an Environmental Assessment for the Proposed Fairburn Expansion Project and Request for Comments on Environmental Issues (NOI). The NOI was sent to affected landowners; federal, state, and local government agencies; elected officials; environmental and public interest groups; Native American tribes; other interested parties; and local libraries and newspapers. In response to the NOI, the Commission received comments from the U.S. Environmental Protection Agency (EPA) and five landowners. The primary issues raised by the commentors are safety and residential impacts during construction, and operational safety in association with electric power line collocation.

The EPA and the U.S. Army Corps of Engineers are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP17-47), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: June 16, 2017.
Nathaniel J. Davis, Sr.,
Deputy Secretary.

[FR Doc. 2017-13088 Filed 6-22-17; 8:45 am]

BILLING CODE 6717-01-P